DEPARTMENT OF THE INTERIOR

Bureau of Indian Affairs

Match-E-Be-Nash-She-Wish Band of Pottawatomi Indians (Gun Lake)—Amendment to Liquor Beverage Control Ordinance

AGENCY: Bureau of Indian Affairs, Interior.

ACTION: Notice

SUMMARY: This notice publishes the amendments to the Match-E-Be-Nash-She-Wish Band of Pottawatomi Indians' Liquor Control Ordinance. The Ordinance regulates and controls the possession, sale and consumption of liquor within the Match-E-Be-Nash-She-Wish Band of Pottawatomi tribal lands. The lands are located in Indian Country and this Ordinance allows for the possession and sale of alcoholic beverages within their boundaries. This Ordinance will increase the ability of the tribal government to control the distribution and possession of liquor within their reservation, and at the same time will provide an important source of revenue, the strengthening of the tribal government and the delivery of tribal services.

DATES: Effective Date: This Amendment is effective 30 days after February 22, 2012.

FOR FURTHER INFORMATION CONTACT: David Christensen, Tribal Operations Officer, Midwest Regional Office, Bureau of Indian Affairs, Norman Pointe II, 5600 American Boulevard West, Suite 500, Bloomington, Minnesota 55437, Phone: (612) 735-4554; Fax: (612) 713-4401: or De Springer, Office of Indian Services, Bureau of Indian Affairs, 1849 C Street NW., MS-4513-MIB, Washington, DC 20240; Telephone (202) 513-7626.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Match-E-Be-Nash-She-Wish Band of Pottawatomi Indians Tribal Council adopted this amendment to the Match-E-Be-Nash-She-Wish Band of Pottawatomi Indian Liquor Control Ordinance by Resolution 11-639, on January 6, 2011.

This notice is published in accordance with the authority delegated by the Secretary of the Interior to the Assistant Secretary—Indian Affairs. I certify that the Tribal Council duly adopted this amendment to the Match-E-Be-Nash-She-Wish Band of Pottawatomi Indians' Liquor Control Ordinance on January 6, 2011.

Dated: February 9, 2012.
Larry Echo Hawk,
Assistant Secretary—Indian Affairs.

The amendments to Chapter 3, Subsection 5(h) and Chapter 4, Section 1 of the Match-E-Be-Nash-She-Wish Band of Pottawatomi Indians' Liquor Control Ordinance read as follows:

Match-E-Be-Nash-She-Wish Band of Pottawatomi Indians Liquor Control Ordinance

Chapter 3—Tribal Liquor License

Section 5. Any Tribal Liquor License shall be subject to such conditions as the Tribal Council shall impose, including, but not limited to the following:

(h) Alcoholic Beverages may only be provided on a complimentary basis, given away, or furnished without charge in any facility licensed under this Ordinance if such action is consistent with the provisions of the Tribe-State Compact, the Tribal Liquor License, or other laws or regulations of the Tribe.

Chapter 4—Incorporation of Michigan Laws by Reference

Section 1. In accordance with 18 U.S.C. 1161, the Tribe hereby adopts and applies as tribal law those Michigan laws, as now or hereafter amended, relating to the sale and regulation of Alcoholic Beverages encompassing the following areas: sale to a Minor; sale to a visibly intoxicated individual; sale of adulterated or misbranded liquor; and hours of operation.

The following laws from the Michigan Liquor Control Code of 1998 are hereby adopted and applied as Tribal law:

436.1233 Uniform prices for sale of alcoholic liquor; gross profit; discount for certain sales of alcoholic liquor.

436.1701 Selling or furnishing alcoholic liquor to person less than 21 years of age; failure to make diligent inquiry; misdemeanor; signs; consumption of alcoholic liquor as cause of death or injury; felony; enforcement against licensee; defense in action for violation; report; definitions.

436.1703 Purchase, consumption, or possession of alcoholic liquor by minor; attempt; violation; fines; sanctions; furnishing fraudulent identification to minor; screening and assessment; chemical breath analysis; construction of section; exceptions; “any bodily alcohol content” defined.

436.1707 Selling, serving, or furnishing alcohol; prohibitions.

436.1801 Granting or renewing license; selling, furnishing or giving alcoholic liquor to minor or person visibly intoxicated; right of action for damage or personal injury; actual damages; institution of action; notice; survival of action; separate actions by parents; commencement of action against retail licensee; indemnification; defenses available to licensee; rebuttable presumption; prohibited causes of action; section as exclusive remedy for money damages against licensee; civil action subject to revised judicature act.

436.1815 Adherence to responsible business practices as defense; compensation of employee on commission basis.

436.1901 Compliance required, prohibited acts.

436.1905 Selling or furnishing alcoholic liquor to minor; enforcement actions prohibited; conditions; exception.

436.2005 Adulterated, misbranded, or refilled liquor.

The laws referenced in this section shall apply in the same manner and to the same extent as such laws apply elsewhere in Michigan, unless otherwise agreed by the Tribe and State.

[FR Doc. 2012-4053 Filed 2-21-12; 8:45 am]

BILLING CODE 4310-4J-P